DEPARTMENT OF DEFENSE

Department of the Army

Intent To Grant an Exclusive License of a U.S. Government-Owned Patent

AGENCY: Department of the Army, DoD.

ACTION:

Notice.

SUMMARY: In accordance with 35 U.S.C. 209 and 37 CFR 404.7(a)(1)(i), announcement is made of the intent to grant an exclusive, royalty-bearing, revocable license within the geographic area of the United States of America and its territories and possessions to U.S. Patent application 11/229,425, filed September 16, 2005 entitled “Artillery Rocket Trajectory Correction Kit,” to Diehl BGT Defense GmbH & Co. KG with its principal place of business at Massberg Facility Alte Nussdorfer Strausse 13 88662 Uberlingen, Germany.

ADDRESSES: Commander, U.S. Army Research Development and Engineering Command, ATTN: AMSRD-AMR-AS-PT-TR, Bldg. 5400, Redstone Arsenal, AL 35898-5000.

FOR FURTHER INFORMATION CONTACT: Dr. Russ Alexander, Officer of Research & Technology Applications, (256) 876-8743.

SUPPLEMENTARY INFORMATION: The Artillery Rocket Trajectory Correction Kit (TCK) is a completely self-contained retrofit kit that is externally and fixedly mounted as an add-on to the rear (aft of the tailfins) of an existing, unguided rocket. The TCK continuously measures the pitch and yaw of the rocket during the initial seconds of the flight as it is released from the launch tube. A trajectory correction is calculated to allow the rocket to stay on a desired path. Selected thrusters are then activated to make any necessary flight correction. The thrusters are positioned around the circumference of the rocket body so as to correctively steer the rocket. Thus, rocket accuracy is improved and collateral damage is reduced.

Brenda S. Bowen,
Army Federal Register Liaison Officer.

[FR Doc. 07-3537 Filed 7-19-07; 8:45 am]

BILLING CODE 3710-08-M